Memorandum of January 21, 2025

Keeping Americans Safe in Aviation

Memorandum for the Secretary of Transportation [and] the Administrator of the Federal Aviation Administration

Every day, the Federal Aviation Administration (FAA), within the U.S. Department of Transportation, oversees safety for more than 45,000 flights and 2.9 million airline passengers. These Americans trust the FAA's public servants with their lives, and it is therefore imperative that they maintain a commitment to excellence and efficiency.

During the prior administration, however, the FAA betrayed its mission by elevating dangerous discrimination over excellence. For example, prior to my Inauguration, the FAA Diversity and Inclusion website revealed that the prior administration sought to specifically recruit and hire individuals with serious infirmities that could impact the execution of their essential life-saving duties.

Illegal and discriminatory diversity, equity, and inclusion (DEI) hiring, including on the basis of race, sex, disability, or any other criteria other than the safety of airline passengers and overall job excellence, competency, and qualification, harms all Americans, who deserve to fly with confidence. It also penalizes hard-working Americans who want to serve in the FAA but are unable to do so, as they lack a requisite disability or skin color. FAA Federal servants must hold the qualifications and ability to perform their jobs to the highest possible standard of excellence.

I hereby order the Secretary of Transportation and the Federal Aviation Administrator to immediately return to non-discriminatory, merit-based hiring, as required by law. All so-called DEI initiatives, including all dangerous preferencing policies or practices, shall immediately be rescinded in favor of hiring, promoting, and otherwise treating employees on the basis of individual capability, competence, achievement, and dedication.

The Secretary of Transportation and the Federal Aviation Administrator shall review the past performance and performance standards of all individuals in critical safety positions and take all appropriate action to ensure that any individual who fails or has failed to demonstrate requisite capability is replaced by a high-capability individual that will ensure top-notch air safety and efficiency.

THE WHITE HOUSE,

Washington, January 21, 2025

[FR Doc. 2025-02099

Filed 1-30-25; 8:45 am]

Billing code 3395-F4-P